ENVIRONMENTAL PROTECTION AGENCY

[EPA-HQ-OAR-2003-0079; FRL—9902-88-OEI]

Information Collection Request Submitted to OMB for Review and Approval; Comment Request; 8-Hour Ozone National Ambient Air Quality Standard (Renewal)

AGENCY: Environmental Protection Agency (EPA).

ACTION: Notice.

SUMMARY: The Environmental Protection Agency has submitted an information collection request (ICR), 8-Hour Ozone National Ambient Air Quality Standard, to the Office of Management and Budget (OMB) for review and approval in accordance with the Paperwork Reduction Act. This is a proposed extension of the ICR, which is currently approved through December 31, 2013. Public comments were previously requested via the Federal Register (78 FR 45188) on July 26, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before December 18, 2013.

ADDRESSES: Submit your comments, referencing Docket ID Number EPA-HQ-OAR-2003-0079, to (1) EPA online using www.regulations.gov (our preferred method), by email to a-and-r-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Mr. H. Lynn Dail, Air Quality Policy Division, Office of Air Quality Planning and Standards, Mail Code C539-01, Environmental Protection Agency, T.W. Alexander Drive, Research Triangle Park, NC 27711; telephone number: (919) 541-2363; fax number: (919) 541-0824; email address: dail.lynn@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

EPA ICR Number: 2236.04.

OMB Control Number: 2060-0594.

Abstract: This ICR assesses the burden (in hours and dollars) of the 1997 8-hour Ozone National Ambient Air Quality Standard (NAAQS) Implementation Rule as well as the periodic reporting and record keeping necessary to maintain the rule. The rule was proposed on June 2, 2003, (68 FR 32802) and promulgated in two Phases: Phase 1 published on April 30, 2004, (69 FR 23951) and Phase 2 published on November 29, 2005 (70 FR 71612). The rule includes requirements that involve collecting information from states with areas that remain designated non-attainment for the 1997 8-hour ozone NAAQS. These information collection milestones include state submission of an attainment demonstration SIP, a RFP SIP submission, and a RACT SIP. However, not all of the milestones and associated burden and administrative costs estimates apply to every designated nonattainment area. The burden estimated is for six of the thirty-eight non-attainment areas that were reclassified to a higher classification resulting in new SIP revisions required. The remaining thirty-two non-attainment areas have either met the requirements or have their requirements suspended.

Form Numbers: None.

Respondents/affected entities: States and regional entities.

Respondent's obligation to respond: Mandatory as required by the Clean Air Act, Section 110.

Estimated number of respondents: 6 (total).

Frequency of response: Annual.

Total estimated burden: 11,667 hours (per year). Burden is defined at 5 CFR 1320.3(b).

Total estimated cost: $759,500 (per year), which includes no annualized capital or operation & maintenance costs.

Changes in the Estimates: There is an increase of 5,000 hours in the total estimated respondent burden compared with the ICR currently approved by OMB. This is due to a number of reasons that include: (1) The burden associated with one remaining non-attainment area that may receive a mandatory reclassification is estimated to be the same as areas completing the initial SIP framework because of the work they must complete to reevaluate databases, emissions inventories, legal authorities, state rule development, publication and public hearing to comply with the standards; (2) EPA's final rule of May 14, 2012 (77 FR 28423) assigning former subpart 1 ozone non-attainment areas re-designations under subpart 2, resulted in non-attainment areas with additional burden for completing SIP revisions; (3) the number of non-attainment areas has decreased as areas have come into compliance with the standards; and (4) the number of non-attainment areas with SIP revisions required has decreased as areas have either submitted the requirements or the planning requirements have been suspended with a Clean Data Determination.

John Moses,
Director, Collection Strategies Division.

[FR Doc. 2013-27434 Filed 11-15-13; 8:45 am]

BILLING CODE 6560-50-P